MARINE MAMMAL COMMISSION

Sunshine Act Notice

TIME AND DATE: The Marine Mammal Commission and its Committee of Scientific Advisors on Marine Mammals will meet on Wednesday, 2 December 2009, from 2 p.m. to 6 p.m.; Thursday, 3 December 2009, from 8 a.m. to 6 p.m.; and Friday, 4 December 2009, from 8:30 a.m. to 6 p.m. The Commission and the Committee will meet in executive session on Wednesday, 2 December 2009, from 10:30 a.m. to 12:30 p.m.

PLACE: Hilton Waikiki/Prince Kuhio, 2500 Kuhio Avenue, Waikiki Beach, Hawaii 96815; Telephone: 808-921-5570; fax: 808-921-5511.

STATUS: The executive session will be closed to the public in accordance with the provisions of the Government in the Sunshine Act (5 U.S.C. 552b) and applicable regulations. The session will be for internal discussions of process, personnel, and the budget of the Commission. All other portions of the meeting will be open to the public. Public participation will be allowed as time permits and as determined to be desirable by the Chairman.

MATTERS TO BE CONSIDERED: The Commission and Committee will meet in public session to discuss a broad range of marine ecosystem and marine mammal matters with a focus on the Pacific Islands region. Although subject to change, major issues that the Commission plans to consider at the meeting include marine protected areas, their status and effectiveness; efforts to protect and recover Hawaiian monk seals; research and regulatory actions affecting spinner dolphins; the Hawaii Humpback Whale Sanctuary; false killer whales and other odontocetes in Hawaii; and other cetaceans in the Pacific Islands region.

CONTACT PERSON FOR MORE INFORMATION: Suzanne Montgomery, Special Assistant to the Executive Director, Marine Mammal Commission, 4340 East-West Highway, Room 700, Bethesda, MD 20814; 301-504-0087; e-mail: smontgomery@mmc.gov.

Dated: November 3, 2009.
Timothy J. Ragen,
Executive Director.

[FR Doc. E9-26919 Filed 11-9-09; 8:45 am]

BILLING CODE 6820-31-M